ENVIRONMENTAL PROTECTION AGENCY

[EPA-HQ-OECA-2014-0027; FRL-8764-01-OMS]

Information Collection Request Submitted to OMB for Review and Approval; Comment Request; NSPS for Bulk Gasoline Terminals (Renewal)

AGENCY: Environmental Protection Agency (EPA).

ACTION: Notice.

SUMMARY: The Environmental Protection Agency (EPA) has submitted an information collection request (ICR), NSPS for Bulk Gasoline Terminals (EPA ICR Number 0664.13, OMB Control Number 2060-0006), to the Office of Management and Budget (OMB) for review and approval in accordance with the Paperwork Reduction Act. This is a proposed extension of the ICR, which is currently approved through September 30, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted on or before August 23, 2021.

ADDRESSES: Submit your comments, referencing Docket ID Number EPA-HQ-OECA-2014-0027 online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of gasoline bulk terminals are required to comply with reporting and record keeping requirements for the General Provisions (40 CFR part 60, subpart A), as well as for the applicable standards in 40 CFR part 60, subpart XXX. This includes submitting initial notifications, performance tests, and maintaining records of inspections and the occurrence and duration of any startup, shutdown, or malfunction in the operation of an affected facility. These reports are used by EPA to determine compliance with these standards.

Form Numbers: None.

Respondents/affected entities: Bulk gasoline terminals.

Respondent's obligation to respond: Mandatory (40 CFR part 60, subpart XX).

Estimated number of respondents: 214 (total).

Frequency of response: Initially.

Total estimated burden: 70,900 hours (per year). Burden is defined at 5 CFR 1320.3(b).

Total estimated cost: $8,320,000 (per year), which includes $0 for annualized capital/startup and/or operation & maintenance costs.

Changes in the estimates: There is an adjustment increase in the total estimated burden as currently identified in the OMB Inventory of Approved Burdens. This increase is not due to any program changes. The change in the burden and cost estimates occurred because of an increase in the number of existing respondents. The number of existing respondents in this ICR has been adjusted based on data collected from EPA's Enforcement and Compliance History Online (ECHO) database. A review of the ECHO data based on NAICS code 424710 (Petroleum Bulk Stations and Terminals), availability of EIS ID, identification as subject to Subpart XX, and reported to the National Emissions Inventory identified approximately 214 active sources. This ICR reflects a more accurate estimate of the number of existing respondents. The number of new respondents per year has not been adjusted due to uncertainty in current industry trends. The overall result is an increase in burden hours and costs.

Courtney Kerwin,
Director, Regulatory Support Division.

[FR Doc. 2021-15661 Filed 7-22-21; 8:45 am]

BILLING CODE 6560-50-P